DEFENSE NUCLEAR FACILITIES SAFETY BOARD

Privacy Act; Systems of Records

AGENCY: Defense Nuclear Facilities Safety Board.

ACTION: Notice of Systems of Records.

SUMMARY: Each Federal agency is required by the Privacy Act of 1974, 5 U.S.C. 552a, to publish a description of the systems of records containing personal information defined by the Act. In this notice the Board updates the descriptions of all seven systems it currently maintains.

FOR FURTHER INFORMATION CONTACT: Richard A. Azzaro, General Counsel, Defense Nuclear Facilities Safety Board, 625 Indiana Avenue, NW., Suite 700, Washington, D.C. 20004-2901, (202) 694-7000.

SUPPLEMENTARY INFORMATION: The Board currently maintains seven systems of records under the Privacy Act.

DNFSB-1

System name:

Personnel Security Files.

Security Classification: Unclassified materials.

System Location:

Defense Nuclear Facilities Safety Board, 625 Indiana Avenue, NW, Washington, DC 20004-2901.

Categories of Individuals Covered by the System:

Employees and applicants for employment with DNFSB and DNFSB contractors; consultants; other individuals requiring access to classified materials and facilities.

Categories of Records in the System:

Personnel security folders and requests for security clearances, Forms SF 86, 86A, 87, 312, and DOE Forms 5631.18, 5631.29, 5631.20, and 5631.21. In addition, records containing the following information:

(1) Security clearance request information;

(2) Records of security education and foreign travel lectures;

(3) Records of any security infractions;

(4) Names of individuals visiting DNFSB;

(5) Employee identification files (including photographs) maintained for access purposes.

Authority for Maintenance of the System:

42 U.S.C. 2286. Routine Uses of Records Maintained in the System, Including Categories of users and the Purpose of Such Uses:

DNFSB—to determine which individuals should have access to classified material and to be able to transfer clearances to other facilities for visitor control purposes. DOE—to determine eligibility for security clearances. Other Federal and State agencies—to determine eligibility for security clearances.

Policies and Practices for Storing, Retrieving, Accessing, Retaining, and Disposing of Records in the System:

Storage:

Paper records and computer files.

Retrievability:

By name, social security number, and numeric code.

Safeguards:

Access is limited to employees having a need to know. Paper records are stored in locked file cabinets, computer records are maintained on a desktop PC with password protection. The office of the system manager is locked when not in use.

Retention and Disposal:

Records retention and disposal requirements are contained in the “General Records Schedules” published by National Archives and Records Administration, Washington, DC. Paper records are destroyed by shredding, computer files by erasure.

System Manager and Address:

Security Management Officer, Defense Nuclear Facilities Safety Board, 625 Indiana Avenue, NW, Suite 700, Washington, DC 20004-2901.

Notification Procedure:

Requests by an individual to determine if DNFSB-1 contains information about him/her should be directed to the Privacy Act Officer, Defense Nuclear Facilities Safety Board, 625 Indiana Avenue, NW, Suite 700, Washington, DC 20004-2901. Required identifying information: Complete name, social security number, and date of birth.

Record Access procedure:

Same as Notification procedure above, except individual must show official photo identification, such as driver's license, passport, or government identification before viewing records.

Contesting Record Procedure:

Same as Record Access procedure.

Record Source Categories:

Subject individuals, Questionnaire for Sensitive Positions (SF-86), agency files, official visitor logs, contractors, and DOE Personnel Security Branch.

System Exempted From Certain Provisions of the Act:

None.

DNFSB-2

System Name:

Administrative and Travel Files.

System Classification:

Unclassified.

System Location:

Defense Nuclear Facilities Safety Board, 625 Indiana Ave., NW, Washington, DC 20004-2901.

Categories of Individuals Covered by the System:

Employees and applicants for employment with DNFSB, including DNFSB contractors and consultants.

Categores of Records in the System:

Records containing the following information:

(1) Name, address, social security number, birth date, and passport number;

(2) Time and attendance;

(3) Payroll actions and deduction information requests;

(4) Authorizations for overtime and night differential;

(5) Credit card numbers;

(6) Official travel documents;

(7) Relocation records;

(8) Parking permit records;

(9) Public transit subsidy applications and issuance records;

(10) Miscellaneous reimbursements.

Authority for Maintenance of the System: 42 U.S.C. § 2286. Routine Uses of Records Maintained in the System, Including Categories of Users and the Purposes of Such uses:

GSA—To reimburse Board employees, applicants for employment and consultants for travel related expenses and miscellaneous reimbursements.

Bureau of the Public Debt—To maintain Official Personnel Folders (OPFs), payroll, time and attendance, for Board employees.

Treasury Department—To collect withheld taxes and issue savings bonds.

Internal Revenue Service—To process Federal income tax.

State and Local Governments—To process state and local income tax.

Office of Personnel Management—Retirement records and benefits.

Social Security Administration—Social Security records and benefits.

Department of Labor—To process Workmen's Compensation claims.

Department of Defense—Military Retired Pay Offices—To adjust Military retirement.

Savings Institutions—To credit accounts for savings made through payroll deductions.

Health Insurance Carriers—To process insurance claims.

General Accounting Office—Audit—To verify accuracy and legality of disbursement.

Veterans Administration—To evaluate veteran's benefits to which the individual may be entitled.

States' Departments of Employment Security—To determine entitlement to unemployment compensation or other state benefits.

Travel Agencies—To process travel itineraries.

Policies and Practices for Storing, Retrieving, Accessing, Retaining, and Disposing of Records in the Sysetm:

Storage:

Paper records and computer files.

Retrievability:

By name, social security number, travel dates, relocation dates, and alphanumeric code.

Safeguards:

Access is limited to employees having a need to know. Paper records are stored in locked file cabinets, computer records are maintained on a desktop PC with password protection.

Retention and Disposal:

Records retention and disposal authority are contained in the “General Records Schedules” published by National Archives and Records Administration, Washington, DC. Paper records are destroyed by shredding, computer files by erasure.

System Managers and Address:

Director of Acquisition and Finance, Defense Nuclear Facilities Safety Board, 625 Indiana Avenue, NW, Suite 700, Washington, DC 20004-2901.

Notification Procedure:

Requests by an individual to determine if DNFSB-2 contains information about him/her should be directed to the Privacy Act Officer, Defense Nuclear Facilities Safety Board, 625 Indiana Avenue, NW, Suite 700, Washington, DC 20004-2901. Required identifying information: Complete name, social security number, and date of birth.

Records Access procedure:

Same as Notification procedures above, except individual must show official photo identification, such as driver's license, passport, or government identification before viewing records.

Contesting Record Procedure:

Same as Record Access procedure.

Record Source Categories:

Subject individuals, timekeepers, BPD for official personnel records, accounting and payroll, OPM for official personnel records for separated employees, IRS and State officials for withholding and tax information, and travel agency contract.

System Exempted From Certain Provisions of the Act:

None.

DNFSB-3

System Name:

Drug Testing Program Records.

System Classification:

Unclassified.

System Location:

Division of Human Resources, Defense Nuclear Facilities Safety Board, 625 Indiana Avenue, NW, Washington, DC 20004-2901. Duplicate systems may exist, in whole or in part, at contractor testing laboratories and collection/evaluation facilities.

Categories of Individuals Covered by the System:

DNFSB employees and applicants for employment with the DNFSB.

Categories of Records in the System:

These records contain information regarding results of the drug testing program; requests for and results of initial, confirmatory and follow-up testing, if appropriate; additional information supplied by DNFSB employees or employment applicants in challenge to positive test results; information supplied by individuals concerning alleged drug abuse by Board employees or contractors; and written statements or medical evaluations of attending physicians and/or information regarding prescription or nonprescription drugs.

Authority for Maintenance of the System:

Executive Order 12564, “Drug-Free Federal Workplace,” September 17, 1986, 51 FR 32889, codified at 5 U.S.C. § 7301, note (1987).

Routine Uses of Records Maintained in the System, Including Categories of Users and the Purpose of Such Uses:

Information in these records may be used by the DNFSB management:

(1) To identify substance abusers within the agency;

(2) To initiate counseling and rehabilitation programs;

(3) To take personnel actions;

(4) To take personnel security actions; and

(5) For statistical purposes.

Policies and Practices for Storing, Retrieving, Accessing, Retaining, and Disposing of Records in the System:

Storage:

Test records are maintained on paper in file folders. Records used for initiating a random drug test are maintained on the Random Employee Selection Automation System. This is a stand-alone system resident on a desktop computer and is password-protected.

Retrievability:

Records maintained in file folders are indexed and accessed by name and social security number. Records maintained for random drug testing are accessed by using a computer database which contains employees' names, social security numbers, and job titles. Employees are then selected from the available pool by the computer, and a list is given to the Drug Program Coordinator of employees and alternates selected for drug testing.

Safeguards:

Access to and use of these records is limited to those persons whose official duties require such access. Records in the Division of Human Resources are stored in a locked file cabinet. Records in laboratory/collection/evaluation facilities are stored under appropriate security measures so that access is limited and controlled.

Retention and Disposal:

(1) Test results, whether negative or positive, and other drug screening records filed in the Division of Human Resources, will be retained and retrieved as indicated above. When an individual terminates employment with the DNFSB, negative test results will be destroyed by shredding. Positive test results will be maintained through the conclusion of any administrative or judicial proceedings, at which time they will be destroyed by shredding.

(2) Test results, whether negative or positive, on file in contractor testing laboratories, ordinarily will be maintained for a minimum of two years in the laboratories. Upon instructions provided by the Division of Human Resources, the results will be transferred to the Division of Human Resources when the contract is terminated or whenever an individual, previously subjected to urinalysis by the laboratory, terminates employment with the DNFSB. Records received from the laboratories by the Division of Human Resources will be incorporated into other records in the system, or if the individual has terminated, those records reflecting negative test results will be destroyed by shredding. Positive test results will be maintained through the conclusion of any administrative or judicial proceedings, at which time they will be destroyed by shredding.

(3) Negative specimens will be destroyed according to laboratory/contractor procedures.

(4) Positive specimens will be maintained through the conclusion of administrative or judicial proceedings.

System Manager(s) and Address:

Director of Human Resources, Defense Nuclear Facilities Safety Board, 625 Indiana Avenue, NW, Suite 700, Washington, DC 20004-2901.

Notification Procedure:

Requests by an individual to determine if DNFSB-3 contains information about him/her should be directed to the Privacy Act Officer, Defense Nuclear Facilities Safety Board, 625 Indiana Avenue, NW, Suite 700, Washington, DC 20004-2901. Required identifying information: Complete name, social security number.

Record Access Procedure:

Same as Notification procedures above, except individual must show official photo identification, such as driver license or government identification before viewing records.

Contesting Record Procedure:

Same as Notification procedures above.

Record Source Categories:

DNFSB employees and employment applicants who have been identified for drug testing, who have been tested, or who have admitted abusing drugs prior to being tested; physicians making statements regarding medical evaluations and/or authorized prescriptions for drugs; individuals providing information concerning alleged drug abuse by Board employees or contractors; DNFSB contractors for processing, including but not limited to, specimen collection, laboratories for analysis, and medical evaluations; and DNFSB staff administering the drug testing program to ensure the achievement of a drug-free workplace.

System Exempted From Certain Provisions of the Act:

Pursuant to 5 U.S.C. 552a(k)(5), the Board has exempted portions of this system of records from 5 U.S.C. 552a(c)(3), (d), (e)(1), (e)(4)(C), (H), and (J), and (f). The exemption is invoked for information in the system of records which would disclose the identity of a person who has supplied information on drug abuse by a Board employee or contractor.

DNFSB-4

System Name:

Personnel Files.

System Classification:

Unclassified.

System Location:

Defense Nuclear Facilities Safety Board, 625 Indiana Ave., NW, Washington, DC 20004-2901.

Categories of Individuals Covered by the System:

Employees and applicants for employment with the DNFSB, including DNFSB consultants.

Categories of Records in the System:

Records concerning the following information:

(1) Name, social security number, sex, date of birth, home address, grade level, and occupational code;

(2) Federal employment application materials;

(3) Records on suggestions, awards, and bonuses;

(4) Training requests, authorization data, and training course evaluations;

(5) Employee appraisals, appeals, grievances, and complaints;

(6) Employee disciplinary actions;

(7) Employee retirement records;

(8) Records on employment transfer.

Authority for Maintenance of the System:

42 U.S.C. 2286.

Routine Uses of Records Maintained in the System, Including Categories of Users and the Purpose of Such Uses:

Bureau of the Public Debt—Maintain official personnel records for DNFSB.

Office of Personnel Management—Transfer and retirement records and benefits, and collection of anonymous statistical reports.

Social Security Administration—Social Security records and benefits.

Federal, State, or Local government agencies—For the purpose of investigating individuals in connection with, security clearances, and administrative or judicial proceedings.

Private Organizations—For the purpose of verifying employees' employment status with the DNFSB.

Policies and Practices for Storing, Retrieving, Accessing, Retaining, and Disposing of Records in the System:

Storage:

Paper records and computer files.

Retrievability:

By name and social security number.

Safeguards:

Access is limited to employees having a need-to-know. Paper records are stored in locked file cabinets, computer files are password-protected.

Retention and Disposal:

Records retention and disposal authority are contained in the “General Records Schedules” published by National Archives and Records Administration, Washington, DC. Paper records within DNFSB are destroyed by shredding, computer files by erasure.

System Manager and Address:

Director of Human Resources, Defense Nuclear Facilities Safety Board, 625 Indiana Avenue, NW, Suite 700, Washington, DC 20004-2901.

Notification Procedure:

Requests by an individual to determine if DNFSB-4 contains information about him/her should be directed to Director of Human Resources, Defense Nuclear Facilities Safety Board, 625 Indiana Avenue, NW, Suite 700, Washington, DC 20004-2901. Required identifying information: Complete name, social security number, and date of birth.

Record Access Procedure:

Same as Notification procedures above, except individual must show official photo identification, such as driver license or government identification before viewing records.

Contesting Record Procedure:

Same as Notification procedures above.

Record Source Categories:

Subject individuals, official personnel records, OPM for official personnel records, State employment agencies, educational institutions, and supervisors.

System Exempted From Certain Provisions of the Act:

None.

DNFSB-5

System Name:

Personnel Radiation and Beryllium Exposure Files.

Security Classification:

Unclassified materials.

System Location:

Defense Nuclear Facilities Safety Board, 625 Indiana Avenue, NW, Washington, DC 20004-2901.

Categories of Individuals Covered By The System:

DNFSB employees, contractors, and consultants.

Categories of Records in the System:

Radiation and beryllium exposure information.

Authority for Maintenance of the System:

42 U.S.C. 2286.

Routine Uses of Records Maintained in the System, Including Categories of Users and the Purpose of Such Uses:

DNFSB—to monitor radiation and beryllium exposure of its employees and contractors.

DOE—to monitor radiation and beryllium exposure of visitors to the various DOE facilities in the United States.

Other Federal and State Health Institutions—To monitor radiation and beryllium exposure of DNFSB personnel.

Policies and Practices for Storing, Retrieving, Accessing, Retaining, and Disposing of Records in the System:

Storage:

Paper records and computer files.

Retrievability:

By name, social security number, and numeric code.

Safeguards:

Access is limited to employees having a need to know. Paper records are stored in locked file cabinets in a controlled access area. Individual employees can view their radiation exposure records by entering a name and password from the desktop.

Retention and Disposal:

Records retention and disposal authority are contained in the “General Records Schedules” published by National Archives and Records Administration, Washington, DC. Paper records within DNFSB are destroyed by shredding, computer files by erasure.

System Manager(s) and Address:

Security Management Officer, Defense Nuclear Facilities Safety Board, 625 Indiana Avenue, NW, Suite 700, Washington, DC 20004-2901.

Notification Procedure:

Requests by an individual to determine if DNFSB-5 contains information about him/her should be directed to the Privacy Act Officer, Defense Nuclear Facilities Safety Board, 625 Indiana Avenue, NW, Suite 700, Washington, DC 20004-2901. Required identifying information: Complete name, social security number, and date of birth.

Record Access Procedure:

Same as Notification procedure above, except individual must show official photo identification, such as driver's license, passport, or government identification before viewing records. Current employees can view their radiation exposure record using a name and password system from the desktop.

Contesting Record Procedure:

Same as Record Access procedure for viewing paper records.

Record Source Categories:

Subject individuals, previous employee records, DOE contractors' film badges, whole body counts, bioassays, dosimetry badges, and beryllium exposure surveys.

System Exempted From Certain Provisions of the Act:

None.

DNFSB-6

System Name:

DNFSB Staff Resume Book.

Security Classification:

Unclassified materials.

System Location:

Defense Nuclear Facilities Safety Board, 625 Indiana Avenue, NW, Washington, DC 20004-2901.

Categories of Individuals Covered by the System:

Members of the Board's technical and legal staff.

Categories of Records in the System:

A summary of each employee's educational background and work experience, with emphasis on areas relevant to the individual's work at the Board.

Authority for Maintenance of the System:

42 U.S.C. 2286.

Routine Uses of Records Maintained in the System, Including Categories of Users and the Purpose of Such Uses:

The Resume Book may be distributed to representatives of the press, Congressional staff, representatives of Federal, State and local governments, and to any member of the public or any organization having a legitimate interest in understanding the technical and legal qualifications of the Board's staff.

Policies and Practices for Storing, Retrieving, Accessing, Retaining, and Disposing of Records in the System:

Storage:

Paper records and computer files.

Retrievability:

By employee name.

Safeguards:

Copies of the Resume Book are sequentially numbered and all copies will be stored under the control of a Board employee. A record will be kept of each disclosure of the book by name of the receiving party and purpose for which the information is provided. The Resume Book will not be available via Internet nor will it be placed in the Board's Public Reading Room.

Retention and Disposal:

The Resume Book will be periodically updated, and out-of-date copies will be destroyed when updated copies are printed.

System Manager(s) and Address:

Director, Division of Information Technology and Security, Defense Nuclear Facilities Safety Board, 625 Indiana Avenue, NW, Suite 700, Washington, DC 20004-2901.

Notification Procedure:

Board employees covered by the Resume Book may examine their entry in it at any time. They may also examine the list of disclosures maintained by the System Manager.

Record Access Procedure:

Same as Notification Procedure.

Contesting Record Procedure:

Any Board employee covered by the Resume Book may request that corrections be made in his/her resume at any time.

Record Source Categories:

Subject individuals.

System Exempted From Certain Provisions of the Act:

None.

DNFSB-7

System Name:

Supervisor Files.

Security Classification:

Unclassified materials.

System Location:

Defense Nuclear Facilities Safety Board, 625 Indiana Avenue, NW, Washington, DC 20004-2901.

Categories of Individuals Covered by the System:

Members of the Board's technical, legal and administrative staff.

Categories of Records in the System:

Files maintained by supervisors, indexed by employee name, containing positive or negative information used primarily to write annual or mid-year performance appraisals or to propose awards and honors. The files may contain written correspondence, examples of an employee's work, printed versions of electronic communications, private notes by the supervisor, and other records bearing on the individual's performance.

Authority for Maintenance of the System:

42 U.S.C. 2286.

Routine Uses of Records Maintained in the System, Including Categories of Users and the Purpose of Such Uses:

Records are used by supervisors to write annual or mid-year performance appraisals for their employees or to propose awards and honors. Records may also be used in connection with disciplinary and adverse actions. These records are not disclosed outside DNFSB and will not be accessed by persons other than the supervisor maintaining the record and administrative staff personnel assigned to file or retrieve records.

Policies and Practices for Storing, Retrieving, Accessing, Retaining, and Disposing of Records in the System:

Storage:

Paper records and computer files.

Retrievability:

By employee name.

Safeguards:

Access is limited to the individual supervisor keeping the records and administrative personnel who may file or retrieve records. Paper records are stored in locked file cabinets or in locked desk drawers; computer files are password-protected.

Retention and Disposal:

Records retention and disposal authority are contained in the “General Records Schedules” published by National Archives and Records Administration, Washington, DC. Most files in DNFSB-7 are purged once per year following completion of appraisals. Paper records are destroyed by shredding, computer files by erasure.

System Manager(s) and Address:

Director, Division of Information Technology and Security, Defense Nuclear Facilities Safety Board, 625 Indiana Avenue, NW, Suite 700, Washington, DC 20004-2901.

Notification Procedure:

Requests by an individual to determine if DNFSB-7 contains information about him/her should be directed to the Privacy Act Officer, Defense Nuclear Facilities Safety Board, 625 Indiana Avenue, NW, Suite 700, Washington, DC 20004-2901. Required identifying information: Complete name, social security number, and date of birth.

Record Access Procedure:

Same as Notification procedure above, except individual must show official photo identification, such as driver's license, passport, or government identification before viewing records.

Contesting Record Procedure:

Same as Record Access procedure.

Record Source Categories:

Subject individuals.

System Exempted From Certain Provisions of the Act:

None.

Dated: September 5, 2001.
John T. Conway,
Chairman.

[FR Doc. 01-22802 Filed 9-10-01; 8:45 am]

BILLING CODE 3670-01-P